ENVIRONMENTAL PROTECTION AGENCY

[FRL-8533-2]

Good Neighbor Environmental Board

AGENCY: Environmental Protection Agency (EPA).

ACTION: Notice of meeting.

SUMMARY: Under the Federal Advisory Committee Act, Public Law 92463, EPA gives notice of a meeting of the Good Neighbor Environmental Board (Board). The Board meets three times each calendar year, twice at different locations along the U.S. border with Mexico, and once in Washington, DC. It was created in 1992 by the Enterprise for the Americas Initiative Act, Public Law 102-532, 7 U.S.C. 5404. Implementing authority was delegated to the Administrator of EPA under Executive Order 12916. The Board is responsible for providing advice to the President and the Congress on environmental and infrastructure issues and needs within the States contiguous to Mexico in order to improve the quality of life of persons residing on the United States side of the border. The statute calls for the Board to have representatives from U.S. Government agencies; the governments of the States of Arizona, California, New Mexico and Texas; and private organizations with expertise on environmental and infrastructure issues along the southwest border.

The purpose of the meeting is to discuss the recommendations contained in the Board's latest annual report. The topic for the report is effective management of natural disasters that occur along the U.S.-Mexico border. The Board also will hear from experts on the topic selected for its next report. The topic for the next report is the use of innovation, including incentives, to reduce pollution along the U.S.-Mexico border. The meeting also will include a public comment session. A copy of the meeting agenda will be posted at http://www.epa.gov/ocem/gneb.

DATES: The Good Neighbor Environmental Board will hold an open meeting on Wednesday, March 19, from 10 a.m. (registration at 9:30 a.m.) to 5:30 p.m. The following day, March 20, it will hold a business meeting from 8 a.m. until 3 p.m.

ADDRESSES: The meeting will be held at The Hilton Washington Towers, 1919 Connecticut Avenue NW., Washington, DC. Telephone: 202-483-3000. The meeting is open to the public, with limited seating on a first-come, first-served basis.

FOR FURTHER INFORMATION CONTACT: Elaine Koerner, Designated Federal Officer, koerner.elaine@epa.gov, 202-564-2586, U.S. EPA, Office of Cooperative Environmental Management (1601M), 1200 Pennsylvania Avenue NW., Washington, DC 20460.

SUPPLEMENTARY INFORMATION: Requests to make brief oral comments or provide written statements to the Board should be sent to Elaine Koerner, Designated Federal Officer, at the contact information above.

Meeting Access: For information on access or services for individuals with disabilities, please contact Elaine Koerner at 202-564-2586 or koerner.elaine@epa.gov. To request accommodation of a disability, please contact Elaine Koerner, preferably at least 10 days prior to the meeting, to give EPA as much time as possible to process your request.

Dated: February 11, 2008.
Elaine Koerner,
Designated Federal Officer.

[FR Doc. 08-807 Filed 2-21-08; 8:45 am]

BILLING CODE 6560-50-M